SECURITIES AND EXCHANGE COMMISSION

Sunshine Act Meeting

Federal Register Citation of Previous Announcement: [to be published].

Status: Closed Meeting.

Place: 100 F Street, NE., Washington, DC.

Date and Time of Previously Announced Meeting: March 31, 2008 at 10 a.m.

Change in the Meetings: Date and Time Change.

The Closed Meeting scheduled for Monday, March 31, 2008 at 10 a.m., has been changed to Wednesday, April 2, 2008 at 10 a.m.

At times, changes in Commission priorities require alterations in the scheduling of meeting items. For further information and to ascertain what, if any, matters have been added, deleted or postponed, please contact:

The Office of the Secretary at (202) 551-5400.

Dated: March 27, 2008.
Nancy M. Morris,
Secretary.

[FR Doc. E8-6718 Filed 3-31-08; 8:45 am]

BILLING CODE 8011-01-P